DEPARTMENT OF LABOR

Employment and Training Administration

[TA-W-64,489; TA-W-64,489A; TA-W-64,489B]

Wyeth Pharmaceuticals, a Subsidiary of Wyeth, Currently Known as Pfizer, Rouses Point, NY; Wyeth Pharmaceuticals, a Subsidiary of Wyeth, Currently Known as Pfizer, Chazy, NY; Wyeth Pharmaceuticals, a Subsidiary of Wyeth, Currently Known as Pfizer, Plattsburgh, NY; Amended Certification Regarding Eligibility To Apply for Worker Adjustment Assistance and Alternative Trade Adjustment Assistance

In accordance with Section 223 of the Trade Act of 1974 (19 U.S.C. 2273), as amended, the Department of Labor issued an Amended Certification of Eligibility to Apply for Worker Adjustment Assistance and Alternative Trade Adjustment Assistance on November 24, 2009, applicable to workers of Wyeth Pharmaceuticals, a subsidiary of Wyeth, Rouses Point, New York. The notice will be published soon in the Federal Register.

At the request of the state agency, the Department reviewed the certification for workers of the subject firm. The workers are engaged in activities related to the production of various pharmaceutical products such as Rapaume Liquid, Effexor, Premarin IV, Premarin, Prempro, Premarin Vaginal Cream, CEDL, and CEC.

New findings show that the Chazy, New York and Plattsburgh, New York locations of Pfizer also experienced an employment decline during the relevant period. Workers at the Chazy and Plattsburgh, New York locations are engaged in activities related to the production of various pharmaceutical products directly supporting and sufficiently under the control of the Rouses Point, New York production facility of the subject firm.

Accordingly, the Department is amending the certification to cover workers at the Chazy, New York and Plattsburgh, New York locations of Pfizer.

The intent of the Department's certification is to include all workers of Pfizer who were adversely affected by a shift in plant production of various pharmaceutical products to Canada.

The amended notice applicable to TA-W-64,489 is hereby issued as follows:

All workers of Wyeth Pharmaceuticals, a subsidiary of Wyeth, currently known as Pfizer, Rouses Point, New York (TA-W-64,489, Wyeth Pharmaceuticals, a subsidiary of Wyeth Pharmaceuticals, a subsidiary of Wyeth, currently known as Pfizer, Chazy, New York (TA-W-64,489A), and Wyeth Pharmaceuticals, a subsidiary of Wyeth, currently known as Pfizer, Plattsburgh, New York (TA-W-64,489B), who became totally or partially separated from employment on or after November 19, 2007, through December 11, 2010, are eligible to apply for adjustment assistance under Section 223 of the Trade Act of 1974, and are also eligible to apply for alternative trade adjustment assistance under Section 246 of the Trade Act of 1974.

Signed in Washington, DC, this 7th day of January 2010.
Elliott S. Kushner,
Certifying Officer, Division of Trade Adjustment Assistance.

[FR Doc. 2010-896 Filed 1-19-10; 8:45 am]

BILLING CODE 4510-FN-P